DEPARTMENT OF TRANSPORTATION

Federal Aviation Administration

Second Meeting, Special Committee 208, Aeronautical Mobile Satellite Services

AGENCY: Federal Aviation Administration (FAA), DOT.

ACTION: Notice of RTCA Special Committee 208 Meeting, Aeronautical Mobile Satellite Services.

SUMMARY: The FAA is issuing this notice to advise the public of a meeting of RTCA Special Committee 208, Aeronautical Mobile Satellite Services.

DATES: The meeting will be held July 17, 2006, from 1:30-5:30 p.m.

ADDRESSES: The meeting will be held at ARINC, Building 6, Conference Center Room 6A3; 2551 Riva Road, Annapolis, Maryland 21401-7435.

Security Instructions: Please e-mail ldharris@arinc.com that you plan to attend, so that security arrangements can be made for the meeting. The following information will be needed by ARINC security personnel. Please respond by July 5, 2006. Attendees: (1) Company (2) Make, Model, and Serial Number of Computer; Non-U.S. Citizens: (3) Passport Number and Country of Citizenship (4) Date of Birth.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 208 meeting. The agenda will include:

• July 17:

• Opening Plenary Session (Welcome, Introductions, and Administrative Remarks).

• Review of SC-208 Terms of Reference.

• Review the proposed Change 3 to DO-210D.

• Review returned FRAC Comment and Resolve Comments.

• Review additional comments from the attendees.

• Submit Change 3 to the PMC for consideration.

• Closing Plenary Session (Other Business, Establish Agenda, Date and Place of Next Meeting if necessary, Adjourn).

Attendance is open to the interested public but limited to space availability. With the approval of the chairmen, member of the public may present oral statements at the meeting. Persons wishing to present statements or obtain information should contact the person listed in the FOR FURTHER INFORMATION CONTACT section. Members of the public may present a written statement to the committee at any time.

Issued in Washington, DC, on June 7, 2006.
Francisco Estrada C.,
RTCA Advisory Committee.

[FR Doc. 06-5448 Filed 6-15-05; 8:45 am]

BILLING CODE 4910-13-M